DEPARTMENT OF HEALTH AND HUMAN SERVICES

National Institutes of Health

Office of the Secretary; Notice of Meeting

Pursuant to section 10(a) of the Federal Advisory Committee Act, as amended, notice is hereby given of a meeting of the Interagency Autism Coordinating Committee.

The meeting will be held as a virtual meeting and is open to the public. Individuals who plan to view the virtual meeting and need special assistance or other reasonable accommodations to view the meeting, should notify the Contact Person listed below in advance of the meeting. The open session will be videocast and can be accessed from the NIH Videocasting and Podcasting website (http://videocast.nih.gov/).

Name of Committee: Interagency Autism Coordinating Committee.

Date: July 21-22, 2021.

Time: Wednesday, July 21, 2021—1:00 p.m. to 4:00 p.m. ET, https://videocast.nih.gov/watch=42326; Thursday, July 22, 2021—2:00 p.m. to 5:00 p.m. ET, https://videocast.nih.gov/watch=42327.

Agenda: To discuss business, updates, and issues related to ASD research and services activities.

Place: National Institutes of Health, Neuroscience Center, 6001 Executive Boulevard, Rockville, MD 20852 (Virtual Meeting).

Cost: The meeting is free and open to the public.

Registration: A registration web link will be posted on the IACC website (www.iacc.hhs.gov) prior to the meeting. Pre-registration is recommended.

Deadlines: Written/Virtual Public Comment Due Date: Friday, July 2, 2021, by 5:00 p.m. ET. For instructions, see below. Public Comments provided via Live Feedback Form during the meeting: No preregistration required. For instructions, see https://iacc.hhs.gov/meetings/iacc-meetings/live-feedback.shtml.

Contact Person: Ms. Rebecca Martin, Office of Autism Research Coordination, National Institute of Mental Health, NIH, 6001 Executive Boulevard, Bethesda, MD 20892-9669, Phone: 301-435-9269, Email: IACCPublicInquiries@mail.nih.gov.

Public Comments: The IACC welcomes public comments from members of the autism community. Comments may be submitted in writing via email to IACCPublicInquiries@mail.nih.gov or using the web form at: https://iacc.hhs.gov/meetings/public-comments/submit/index.jsp by 5:00 p.m. ET on Friday, July 2, 2021. Comments may be addressed to the Interagency Autism Coordinating Committee. A limited number of slots are available for individuals to provide a 2-3-minute summary or excerpt of their comment to the committee live during the virtual meeting using the virtual platform. For those interested in that opportunity, please indicate “Interested in providing virtual comment” in your written submission, along with your name, address, email, phone number, and professional/organizational affiliation so that OARC staff can contact you if a slot is available for you to provide a summary or excerpt of your comment via the virtual platform during the meeting. For any given meeting, priority for virtual comment slots will be given to commenters who have not previously provided virtual comments in the current calendar year. This will help ensure that as many individuals as possible have an opportunity to share comments. Commenters going over their allotted 3-minute slot may be asked to conclude immediately to allow other comments and the rest of the meeting to proceed on schedule.

Public comments received by 5:00 p.m. ET on Friday, July 2, 2021, will be provided to the Committee prior to the meeting for their consideration. Any written comments received after 5:00 p.m. ET, Friday, July 2, 2021, may be provided to the Committee either before or after the meeting, depending on the volume of comments received and the time required to process them in accordance with privacy regulations and other applicable Federal policies. All public comments become part of the public record. Attachments of copyrighted publications are not permitted, but web links or citations for any copyrighted works cited may be provided. For public comment guidelines, see: https://iacc.hhs.gov/meetings/public-comments/guidelines/.

Individuals may also submit public comments to the IACC via a Live Feedback Form accessible from the webcast page on the days of the meeting during the time period announced. No pre-registration for Live Feedback comments is required. The link to the form will be accessible on the NIH Videocast website at https://videocast.nih.gov and instructions are available on the IACC website: https://iacc.hhs.gov/meetings/iacc-meetings/live-feedback.shtml. This format is best suited for brief questions and comments for the committee. Submissions will be provided to the IACC and will become a part of the public record.

Technical Issues: If you experience any technical problems with the webcast or conference call, please send an email to IACCPublicInquiries@mail.nih.gov or use the Live Feedback form on the NIH Videocast meeting page.

Meeting schedule subject to change.

Disability Accommodations: All IACC Full Meetings provide Closed Captioning through the NIH videocast website. Individuals whose full participation in the meeting will require special accommodations (e.g., sign language or interpreting services, etc.) must submit a request to the Contact Person listed on the notice at least seven (7) business days prior to the meeting. Such requests should include a detailed description of the accommodation needed and a way for the IACC to contact the requester if more information is needed to fill the request. Special requests should be made at least seven (7) business days prior to the meeting; last minute requests may be made but may not be possible to accommodate.

More Information: Information about the IACC is available on the website: http://www.iacc.hhs.gov.

Dated: June 21, 2021.
Melanie J. Pantoja,
Program Analyst, Office of Federal Advisory Committee Policy.

[FR Doc. 2021-13528 Filed 6-24-21; 8:45 am]

BILLING CODE 4140-01-P